DEPARTMENT OF THE TREASURY

Submission for OMB Review; Comment Request

August 8, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before September 13, 2006 to be assured of consideration.

Internal Revenue Service (IRS)

OMB Number: 1545-0712.

Type of Review: Extension.

Title: Risk Limitations.

Form: 6198.

Description: IRC section 465 requires taxpayers to limit their at-risk loss to the lesser of the loss or their amount at risk. Form 6198 is used by taxpayers to determine their deductible loss and by IRS to verify the amount deducted.

Respondents: Business and other for-profit institutions.

Estimated Total Burden Hours: 914,419 hours.

OMB Number: 1545-1853.

Type of Review: Extension.

Title: Electronic Sales Kit: Interview Guide.

Description: A guide used by IRS Wage & Investment Division (W&I)-Stakeholder Partnerships, Education and Communication (SPEC) and Small Business/Self-Employed Division (SB/SE)-Taxpayer Education and Communication (TEC) Field employees containing suggested questions to ask during in-person visitations and/or telemarketing calls with tax professionals to better direct a conversation leading to encouraging the tax professional to e-file.

Respondents: Business and other for-profit institutions.

Estimated Total Burden Hours: 3,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-13274 Filed 8-11-06; 8:45 am]

BILLING CODE 4830-01-P